DEPARTMENT OF HOUSING AND URBAN DEVELOPMENT

[Docket No. FR-5480-N-50]

Notice of Submission of Proposed Information Collection to OMB, Emergency Comment Request; Communities Challenge Planning Grant

AGENCY: HUD's, Office of Sustainable Housing and Communities.

ACTION: Notice of proposed information collection.

SUMMARY: The proposed information collection requirement described below has been submitted to the Office of Management and Budget (OMB) for emergency review and approval, as required by the Paperwork Reduction Act. The Department is soliciting public comments on the subject proposal. This data collection is for applications received under the community Challenge Planning Grants Notice of Funding Availability.

DATES: Comments Due Date: June 28, 2011.

ADDRESSES: Interested persons are invited to submit comments regarding this proposal. Comments must be received within 14 days from the date of this Notice. Comments should refer to the proposal by name/or OMB approval number (2501-0025) and should be sent to: HUD Desk Officer, Office of Management and Budget, New Executive Office Building, Washington, DC 20503; e-mail: oir submission @omb.eop.gov; fax: 202-395-3086.

FOR FURTHER INFORMATION CONTACT: Reports Management Officer, QDAM, Department of Housing and Urban Development, 4517th Street, SW., Washington, DC 20410; e-mail colette.pollard@hud.gov; telephone (202) 708-2374. This is not a toll-free number. Copies of available documents submitted to OMB may be obtained from the Reports Management Officer.

SUPPLEMENTARY INFORMATION: This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Communities Challenge Planning Grant.

OMB Control Number: 2501-0025.

Agency Form Numbers: (a) Form SF-424—Application for Federal Assistance.

(b) SF-424 Supplement Survey on Equal Opportunity for Applicants (“Faith Based EEO Survey (SF-424 SUPP)” on Grants.gov) (optional submission).

(c) HUD-424 CBW, HUD Detailed Budget Worksheet, (Include Total Budget (Federal Share and Matching) and Budget Justification Narrative.

(d) Form HUD 2880—Applicant/Recipient Disclosure/Update Report (“HUD Applicant Recipient Disclosure Report” on Grants.gov).

(e) Form SF-LLL—Disclosure of Lobbying Activities (if applicable).

(f) Form HUD 96011—Third Party Documentation Facsimile Transmittal (“Facsimile Transmittal Form” on Grants.gov) (Used as the cover page to transmit third party documents and other information designed for each specific 4 application for tracking purposes. HUD will not read faxes that do not use the HUD-96011 as the cover page to the fax.)

Description of Information Collection:

The Department of Defense and Full-Year Continuing Appropriations Act, 2011 (Pub. L. 112-10, approved April 15, 2011) (Appropriations Act), provided $30,000,000 for HUD's Community Challenge Planning Grant Program.

HUD's $30 million Community Challenge Planning Grant Program will foster reform and reduce barriers to achieving affordable, economically vital, and sustainable communities. Such efforts may include amending or replacing local master plans, zoning codes, and building codes, either on a jurisdiction wide basis or in a specific neighborhood, district, corridor, or sector to promote mixed-use development, affordable housing, the reuse of older buildings and structures for new purposes, and similar activities with the goal of promoting sustainability at the local or neighborhood level. HUD's Community Challenge Planning Grant Program also supports the development of affordable housing through the development and adoption of inclusionary zoning ordinances and other activities such as acquisition of land for affordable housing projects.

In fiscal year 2010 a joint Notice of Funding Availability was issued for HUD's Community Challenge Planning Grant program and DOT's TIGER II Planning Grant program, as a result both agencies successfully awarded 14 joint grants. This fiscal year DOT did not receive transportation planning funds as part of the National Infrastructure Investments program therefore a joint NOFA will not be issued.

Members of Affected Public: State, Local Government and Non-profit organization.

Estimation of the Total Numbers of Hours Needed to Prepare the Information Collection Including Number of Respondents, Frequency of Responses, and Hours of Response:

The estimated number of respondents is 600 and the number of responses is 1. There will be in total, approximately 900 total responses. The total reporting burden is 1800 hours.

Status of the Proposed Information Collection: Reinstatement, with change, of a previously approved collection for which approval has expired.

Authority: The Paperwork Reduction Act of 1995, 44 U.S.C. chapter 35, as amended.

Dated: June 7, 2011.
Colette Pollard,
Departmental Reports Management Officer, Office of the Chief Information Officer.

[FR Doc. 2011-14602 Filed 6-13-11; 8:45 am]

BILLING CODE 4210-67-P